ENVIRONMENTAL PROTECTION AGENCY

[FRL-7477-4]

Science Advisory Board; Notification of Public Advisory Committee Meeting Ecological Processes and Effects Committee (EPEC) Conference Call

AGENCY: Environmental Protection Agency (EPA).

ACTION: Notice.

SUMMARY: The Environmental Protection Agency (EPA), Science Advisory Board (SAB), Ecological Processes and Effects Committee (EPEC) is announcing a planning teleconference meeting to discuss several proposed self-initiated projects for Fiscal Year 2004.

DATES: The conference call meeting will take place on Wednesday, April 21, 2003 from 2 p.m. to 4 p.m. Eastern Standard Time. Participation will be by teleconference only.

ADDRESSES: Members of the public who wish to obtain the call-in number and access code to participate must contact Ms. Sandra Friedman, EPA Science Advisory Board Staff Office; telephone/voice mail at (202) 564-4526 or via e-mail at friedman.sandra@epa.gov in order to register.

FOR FURTHER INFORMATION CONTACT: Any member of the public wishing further information about this conference call meeting should contact Mr. Lawrence Martin, Designated Federal Officer, by telephone/voice mail at (202) 564-6497 or via e-mail at martin.lawrence@epa.gov. General information concerning the EPA Science Advisory Board can be found on the EPA Web site at http://www.epa.gov/sab.

SUPPLEMENTARY INFORMATION:

1. Summary: The U.S. Environmental Protection Agency (EPA or Agency) Science Advisory Board (SAB) is providing this notification of an upcoming teleconference call meeting of the Ecological Processes and Effects Committee (EPEC).

The SAB was established by 42 U.S.C. 4365 to provide independent scientific and technical advice, consultation, and recommendations to the EPA Administrator on the technical basis for Agency positions and regulations. This committee of the SAB will comply with the provisions of the Federal Advisory Committee Act (FACA) and all appropriate SAB policies and procedures.

During the public conference call meeting, to take place at the date and time noted above, the EPEC will discuss its proposals for self-initiated projects to be considered by the SAB in FY 2004. Self-initiated projects are scientific and technical projects proposed outside of the normal mechanism of Agency-requested consultations, advisories, and peer reviews. Such projects are intended to address critical needs for anticipatory or cross-cutting scientific and technical advice. All SAB self-initiated projects will be evaluated by the SAB's Executive Committee (EC) during a public conference call to be announced in May 2003.

2. Availability of Meeting Materials: A copy of the draft agenda for the meeting that is the subject of this notice will be posted on the SAB Web site (www.epa.gov/sab) (under the AGENDAs subheading) approximately 10 days before the conference call meeting. Other materials that may be available, such as draft proposals for SAB self-initiated projects to be considered at the EPEC conference call meeting will also be posted on the SAB Web site in this time-frame, linked to the calendar entry for this meeting (http://www.epa.gov/sab/mtgcal.htm.)

3. Providing Oral or Written Comments at SAB Meetings: It is the policy of the EPA Science Advisory Board (SAB) to accept written public comments of any length, and to accommodate oral public comments whenever possible. The EPA SAB expects that public statements presented at its meetings will not be repetitive of previously submitted oral or written statements. Oral Comments: In general, each individual or group requesting an oral presentation at a face-to-face meeting will be limited to a total time of ten minutes (unless otherwise indicated). For conference call meetings, opportunities for oral comment will usually be limited to no more than three minutes per speaker and no more than fifteen minutes total. Interested parties should contact the Designated Federal Official (DFO) at least one week prior to the meeting in order to be placed on the public speaker list for the meeting. Speakers may attend the meeting and provide comment up to the meeting time. Speakers should bring at least 35 copies of their comments and presentation slides for distribution to the reviewers and public at the meeting. Written Comments: Although the SAB accepts written comments until the date of the meeting (unless otherwise stated), written comments should be received in the SAB Staff Office at least one week prior to the meeting date so that the comments may be made available to the review panel for their consideration. Comments should be supplied to the appropriate DFO at the address/contact information noted below in the following formats: one hard copy with original signature, and one electronic copy via e-mail (acceptable file format: Adobe Acrobat, WordPerfect, Word, or Rich Text files (in IBM-PC/Windows 95/98 format). Those providing written comments and who attend the meeting are also asked to bring 35 copies of their comments for public distribution. Should comment be provided at the meeting and not in advance of the meeting, they should be in-hand to the DFO up to and immediately following the meeting.

4. Meeting Access: Individuals requiring special accommodation to access this meeting, should contact the DFO at least five business days prior to the meeting so that appropriate arrangements can be made.

Dated: March 28, 2003.
Vanessa T. Vu,
Director, EPA Science Advisory Board Staff Office.

[FR Doc. 03-8259 Filed 4-3-03; 8:45 am]

BILLING CODE 6560-50-P